DEPARTMENT OF THE INTERIOR

Bureau of Land Management

[CA 669-04-1610-DO-083A]

Notice of Intent To Prepare an Amendment to the South Coast Resource Management Plan for the Santa Ana River Area of Critical Environmental Concern

AGENCY: Bureau of Land Management, Interior.

ACTION: Notice of intent.

SUMMARY: Pursuant to 43 CFR 1610.2(c), notice is hereby given that the Bureau of Land Management (BLM) intends to amend the 1994 South Coast Resource Management Plan. The proposed amendment and environmental impact statement (EIS) will describe and analyze alternatives for a proposed land exchange with the San Bernardino Valley Water Conservation District. The proposed action would affect land designated as an Area of Critical Environmental Concern (ACEC) and Research Natural Area (RNA) for protection of two plants federally listed as endangered, Santa Ana River woollystar (Eriastrum densiflorum ssp. sanctorum) and slender-horned spineflower (Dodecahema leptoceras).

DATES: This notice initiates the public scoping process. Comments on issues and planning criteria may be submitted in writing to the address listed below. All public meetings will be announced through the local news media, newspapers, and the BLM Web site (http://www.ca.blm.gov/palmsprings) at least 15 days prior to the event. Public scoping meetings on the EIS will tentatively be held in April and/or May of 2004. In order to ensure local community participation and input, BLM will hold public meetings in the cities of Highland and Redlands, California. In addition to the ongoing public participation process, formal opportunities for public participation will be provided upon publication of the draft EIS. Written comments will be accepted and considered throughout the entire planning process.

ADDRESSES: Comments should be sent to Greg Hill, Santa Ana River Wash Project, Bureau of Land Management, P.O. Box 581260, North Palm Springs, CA 92258 or by fax at (760) 251-4899, or by e-mail at gchill@ca.blm.gov. Documents pertinent to this proposal, including comments with the names and addresses of respondents, will be available for public review at the BLM Palm Springs-South Coast Field Office located at 690 W. Garnet Avenue, North Palm Springs, California, during regular business hours of 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. BLM will not consider anonymous comments. All submissions from organizations and businesses, and from individuals identifying themselves as representatives or officials of organizations or businesses, will be available for public inspection in their entirety.

FOR FURTHER INFORMATION CONTACT: For further information and/or to have your name added to our mailing list, contact Greg Hill, Santa Ana River Wash Project, Bureau of Land Management, Palm Springs-South Coast Field Office, (760) 251-4840, or by e-mail at gchill@ca.blm.gov.

SUPPLEMENTARY INFORMATION: This proposed land exchange is part of a multi-jurisdictional Land Management and Habitat Conservation Plan proposed for approximately 4,365 acres located in the upper Santa Ana River Wash area in southwestern San Bernardino County. The proposed plan provides for the coordination between State and Federal agencies, local government, and private-property owners for accommodation of existing and anticipated future activities within the Santa Ana River Wash Planning Area. The planning area boundaries begin at the mouth of Santa Ana Canyon at Greenspot Road and extend westward for approximately six miles to Alabama Street. Greenspot Road generally forms the northern boundary of the project area and the south bluffs of the Santa Ana River generally form the southern boundary. The plan proposes the continuation of existing water conservation facilities; the creation of a habitat conservation area; the continuation of a flood management program; the continuation and, in some cases, the expansion of roadways and utilities; the continuation of existing trails and construction of new trails; expansion of two existing sand and gravel mining operations; and the proposed BLM land exchange. The proposed land exchange would exchange public land west and south of Greenspot Road and north of the Santa Ana River for offered lands of equal value owned by the San Bernardino Valley Water Conservation District. The alternatives are: (A) Proposed Action (exchange approximately 508 acres of public lands with restrictive covenants for Conservation District lands of equal value), (B) Modification of existing land use designations on specified BLM land to permit mining activities, and (C) No Action Alternative (the exchange proposal would be rejected). The plan amendment would amend the 1994 South Coast Resource Management Plan and Record of Decision to reflect the proposed land exchange. BLM personnel, other agencies, and individuals have identified preliminary issues and concerns. Predominant issues identified so far include threatened, endangered, and other special status species, mineral resources, water resources, recreation, visual resources, cultural resources, land management, and traffic management. Additional issues will be identified during the public scoping process.

Dated: March 11, 2004.
Greg Hill,
Acting Field Manager, Palm Springs-South Coast Field Office.

[FR Doc. 04-9319 Filed 4-23-04; 8:45 am]

BILLING CODE 4310-40-P